DEPARTMENT OF TRANSPORTATION

Federal Aviation Administration

[Summary Notice No. PE-2002-12]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 11, 2002.

ADDRESSES: Send comments on any petition to the Docket Management System, U.S. Department of Transportation, Room Plaza 401, 400 Seventh Street, SW., Washington, DC 20590-0001. You must identify the docket number FAA-2001-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Sandy Buchanan-Sumter (202) 267-7271, Office of Rulemaking (ARM-1), Federal Aviation Administration, 800 Independence Avenue, SW., Washington, DC 20591.

This notice is published pursuant to 14 CFR 11.85 and 11.91.

Issued in Washington, DC, on February 13, 2002.
Donald P. Byrne,
Assistant Chief Counsel for Regulations.

Petitions for Exemption

[Docket No.: FAA-2001-9976]

Petitioner: United States Ultralight Association, Inc.

Section of 14 CFR Affected: 14 CFR 103.1(a) and (e).

Description of Relief Sought: To permit individuals authorized by the USUA to give instruction in powered ultralight vehicles that have a maximum empty weight of not more than 496 pounds, have a maximum fuel capacity of not more than 10 U.S. gallons, are not capable of more than 75 knots calibrated airspeed at full power in level flight, and have a power-off stall speed that does not excess 35 knots calibrated airspeed, and to include weight exclusions of up to 35 pounds for safety devices intended for deployment in a potentially catastrophic situation, up to 70 pounds for each float, up to 90 pounds for each amphibious float, up to 120 pounds for an amphibious fuselage, and up to 15 pounds for each outrigger float and pylon on powered ultralight vehicles used for training.

[Docket No.: FAA-2001-8939]

Petitioner: Experimental Aircraft Association.

Section of 14 CFR Affected: 14 CFR 103.1(a) and (e).

Description of Relief Sought: To permit individuals authorized by EAA to give instruction in powered ultralight vehicles that have a maximum empty weight of not more than 496 pounds, have a maximum fuel capacity of not more than 10 U.S. gallons, are not capable of more than 75 knots calibrated airspeed at full power in level flight, and have a power-off stall speed that does not exceed 35 knots calibrated airspeed, and to include weight exclusions of up to 35 pounds for safety devices intended for deployment in a potentially catastrophic situation, up to 70 pounds for each float, up to 90 pounds for each amphibious float, up to 120 pounds for an amphibious fuselage, and up to 15 pounds for each outrigger float and pylon on powered ultralight vehicles used for training.

[Docket No.: FAA-2000-8425]

Petitioner: Aero Sports Connection, Inc.

Section of 14 CFR Affected: 14 CFR 103.1(a) and (e).

Description of Relief Sought: To permit individuals authorized by ASC to give instruction in powered ultralight vehicles that have a maximum empty weight of not more than 496 pounds, have a maximum fuel capacity of not more than 10 U.S. gallons, are not capable of more than 75 knots calibrated airspeed at full power in level flight, and have a power-off stall speed that does not exceed 35 knots calibrated airspeed, and to include weight exclusions of up to 35 pounds for safety devices intended for deployment in a potentially catastrophic situation, up to 70 pounds for each float, up to 90 pounds for each amphibious float, up to 120 pounds for an amphibious fuselage, and up to 15 pounds for each outrigger float and pylon on powered ultralight vehicles used for training.

[FR Doc. 02-3932 Filed 2-15-02; 8:45 am]

BILLING CODE 4910-13-M